FEDERAL COMMUNICATIONS COMMISSION

47 CFR Part 26

[WT Docket No.13-115; Report No. 3226; FRS 296432]

Petition for Reconsideration of Action in Rulemaking Proceeding

AGENCY: Federal Communications Commission.

ACTION: Petition for Reconsideration.

SUMMARY: Petitions for Reconsideration (Petition) have been filed in the Commission's proceeding by Kara R. Curtis on behalf of Aerospace and Flight Test Radio Coordinating Council, Inc. and by Ari Q. Fitzgerald et al. on behalf of GE HealthCare Technologies Inc.

DATES: Oppositions to the Petition must be filed on or before June 16, 2025. Replies to oppositions to the Petition must be filed on or before June 24, 2025.

ADDRESSES: Federal Communications Commission, 45 L Street NE, Washington, DC 20554.

FOR FURTHER INFORMATION CONTACT: Mark DeSantis, Wireless Telecommunications Bureau, Mobility Division, (202) 418-0678 or mark.desantis@fcc.gov.

SUPPLEMENTARY INFORMATION: This is a summary of the Commission's document, Report No. 3226, released May 16, 2025. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Amendment of Part 2 of the Commission's Rules for Federal Earth Stations Communicating with Non-Federal Fixed Satellite Service Space Stations, ET Docket No. 13-115, Third Report and Order, FCC 24-132, published at 90 FR 11480 on March 7, 2025.

Number of Petitions Filed: 2.

Federal Communications Commission.
Katura Jackson,
Federal Register Liaison Officer.

[FR Doc. 2025-09819 Filed 5-29-25; 8:45 am]

BILLING CODE 6712-01-P